DEPARTMENT OF JUSTICE

Antitrust Division

Notice Pursuant to the National Cooperative Research and Production Act of 1993—Expeditionary Missions Consortium—Crane

Notice is hereby given that, on January 11, 2024, pursuant to section 6(a) of the National Cooperative Research and Production Act of 1993, 15 U.S.C. 4301 et seq. (“the Act”), Expeditionary Missions Consortium—Crane (“EMC²”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: ACMI-Austin, LLC, Austin, TX; Advanced Simulation Technology Inc., Herndon, VA; Aegis Power Systems, Inc., Murphy, NC; Aerovel Corporation, Bingen, WA; Alluvionic Inc., Melbourne, FL; Amentum Services, Inc., Chantilly, VA; American Rheinmetall Munition Inc., Stafford, VA; Applied Information Sciences, Inc, Reston, VA; Applied Technology, Inc., King George, VA; Assured Information Security, Inc., Rome, NY; Astrapi Corporation, Dallas, TX; Asymmetric Technologies, LLC, Dublin, OH; Battelle, Columbus, OH; Beast Code LLC, Fort Walton Beach, FL; Bigelow Family Holdings LLC DBA Mettle Ops, Sterling Heights, MI; Boston Engineering Corporation, Waltham, MA; CFD Research Corporation, Huntsville, AL; Cisco Systems, Inc., San Jose, CA; Colvin Run Networks, Inc., Tysons, VA; Concurrent Technologies Corporation, Johnstown, PA; Corvid Technologies, LLC, Mooresville, NC; DataSoft Corp., Phoenix, AZ; Davidson Technologies Incorporated, Huntsville, AL; deciBel Research, Inc., Huntsville, AL; Design West Technologies, Inc., Tustin, CA; Dignitas Technologies, Orlando, FL; DKW Consulting LLC, Tallahassee, FL; ElbitAmerica, Inc., Fort Worth, TX; Eos Energetics Inc., Penrose, CO; EPIQ Design Solutions, Rolling Meadows, IL; EWA Government Systems, Inc.; Exergi Predictive, Hugo, MN; Exquadrum Inc., Victorville, CA; Fenix Group, Inc., Chantilly, VA; G3 Technologies, Columbia, MD; GaN Corporation, Huntsville, AL; GenXComm, Austin, TX; GIRD Systems, Inc, Cincinnati, OH; Graf Research Corporation, Blacksburg, VA; Guidehouse Inc, Mclean, VA; HDT Expeditionary—Global, Solon, OH; HDT Expeditionary Systems, Fredericksburg, VA; Hyperion Technology Group, Inc., Tupelo, MS; iGov Technologies, Inc., Reston, VA; Indiana Microelectronics, LLC, West Lafayette, IN; Integrated Solutions For Systems, Inc., Huntsville, AL; Integration Innovation Inc, Huntsville, AL; Intuitive Research and Technology Corporation, Huntsville, AL; Iron EagleX, Inc., Tampa, FL; JEM Engineering, LLC, Laurel, MD; Karem Aircraft, Inc., Lake Forest, CA; KEF Robotics, Pittsburg, PA; KnowledgeBridge International, Chantilly, VA; Kord Technologies, LLC, Huntsville, AL; Kostas Research Institute, Burlington, MA; Kowalski Heat Treating, Cleveland, OH; KPMG LLP, Mclean, VA; L2NL, LLC, Charleston, SC; L3Harris Maritime Services, Inc., Norfolk, VA; Laine LLC, Goose Creek, SC; Lockheed Martin Corporation, Grand Prairie, TX; Ludlum Measurements, Inc. dba VPI Technology, Draper, UT; Makai Ocean Engineering, Inc., Waimanalo, HI; Marine Ventures International, Inc., Stuart, FL; MATBOCK, LLC, Virginia Beach, VA; MBDA Incorporated, Huntsville, AL; MEPSS LLC, Indian Harbour Beach, FL; Merril Technologies Group, Inc., Saginaw, MI; Mistral Inc., Bethesda, MD; Munro & Associates, Inc., Auburn Hills, MI; NAG, LLC dba NAG Marine, Norfolk, VA; Navmar Applied Sciences Corporation, Warminster, PA; NIC4, Inc. d/b/a Network Innovations U.S. Government, Tampa, FL; Northrop Grumman Defense Systems, Mclean, VA; Northrop Grumman Systems Corporation, Plymouth, MN; Nostromo, LLC, Kennebunk, ME; NOVA Power Solutions, Inc., Sterling, VA; Oceanetics, Annapolis, MD; Opto-Knowledge Systems, Inc., Torrance, CA; Otoole Tek LLC, Rocky Hill, CT; Outpost Technologies, Inc., Huntsville, AL; Parsons Government Services, Centreville, VA; Pathfinder Wireless Corp., Seattle, WA; Peerless Technologies Corporation, Fairborn, OH; Persistent Systems, LLC, New York, NY; Pison Technology, Boston, MA: Plasan North America, Inc., Walker, MI; Precision Products Inc, Dalton, GA; PTI Tech, Clifton, NJ; Purdue Applied Research Institute, LLC, West Lafayette, IN; Questek Innovations LLC, Evanston, IL; RadioSoft, Inc. (dba LS telcom a RadioSoft operation), Clarkesville, GA; Rafael Systems Global Sustainment, LLC, Reston, VA; R-DEX Systems, Inc., Woodstock, GA; REDLattice, Inc., Chantilly, VA; Resource Management Concepts, Inc., Lexington Park, MD; Rocal Corp d.b.a Rebling Plastings, Warrington, PA; Rocky Mountain Scientific Laboratory, Littleton, CO; Raytheon Company, El Segundo, CA; Saab, Inc., East Syracuse, NY; SAVIT Corporation, Rockaway, NJ; SCHOTT North America, Inc, Duryea, PA; Sciens Innovations, LLC, York, PA; Sentient Digital dba Entrust Government Solutions, New Orleans, LA; Siemens Government Technologies, Inc., Reston, VA; Sierra Nevada Corporation, Englewood, CO; Signature Science LLC, Austin, TX; Smartronix, LLC, Hollywood, MD; Southwest Research Institute, San Antonio, TX; Spectral Labs Incorporated, San Diego, CA; Steiner eOptics, Inc, Miamisburg, OH; Strategy Robot, Inc., Pittsburgh, PA; Technology Service Corporation dba TSC, Arlington, VA; Texas Research Institute Austin, Inc., Austin, TX; Thales Defense & Security, Inc., Clarksburg, MD; ThayerMahan Inc., Groton, CT; The SURVICE Engineering Company, LLC, Belcamp, MD; The University of Alabama in Huntsville, Huntsville, AL; TLC Solutions, Inc., Saint Augustine, FL; Vadum Inc, Raleigh, NC; Valkyrie Enterprises, LLC, Virginia Beach, VA; VES LLC, Aberdeen Proving Ground, MD; Viasat, Carlsbad, CA; Vsolvit LLC, Henderson, NV; W R Systems, Ltd., Fairfax, VA; and XR 2 Lead LLC, Dumfries, VA.

The general area of EMC²'s planned activity is to conduct research, research and development, and prototyping of projects and programs in the following technology areas: Verification and Validation, Artificial Intelligence/Machine Learning, Multispectral Sensing, Design Assurance, Outreach and Standards, Materials and Processes, Manufacturing Technology, Modeling and Simulation, Spectrum Warfare Technologies, and Expeditionary Warfare Technologies.

Suzanne Morris,
Deputy Director Civil Enforcement Operations, Antitrust Division.

[FR Doc. 2024-05301 Filed 3-12-24; 8:45 am]

BILLING CODE P